DEPARTMENT OF HEALTH AND HUMAN SERVICES

Indian Health Service

[0917-ZA06]

Reimbursement Rates for Calendar Year 2000

Notice is given that the Director of Indian Health Service, under the authority of sections 321(a) and 322(b) of the Public Health Service Act (42 U.S.C. 248(a) and 249(b)) and section 601 of the Indian Health Care Improvement Act (25 U.S.C. 1601), has approved the following reimbursement rates for inpatient and outpatient medical care in facilities operated by the Indian Health Service for Calender Year 2000 for Medicare and Medicaid Beneficiaries and Beneficiaries of other Federal Agencies. Indian Health Service facilities that are paid the inpatient rate set forth below may also bill for Medicaid physician services to the extent that those services meet applicable requirements under an approved State Medicaid plan.

Inpatient Hospital Per Diem Rate (Excludes Physician Services)

Calendar Year 2000

Lower 48 States | $1,157
Alaska | 1,428

Outpatient per Visit Rate (Excluding Medicare)

Calendar Year 2000

Lower 48 States | $172
Alaska | 304

Outpatient per Visit Rate (Medicare)

Calender Year 2000

Lower 48 States | $139
Alaska | 308

Medicare Part B Inpatient Ancillary per Diem Rate

Calender Year 2000

Lower 48 States | $666
Alaska | 913

Outpatient Surgery Rate (Medicare)

Established rates for freestanding Ambulatory Surgery Centers

Effective Date for Calender Year 2000 Rates

Consistent with previous annual rate revisions, the Calender Year 2000 rates will be effective for services provided on/or after January 1, 2000 to the extent consistent with payment authorities including the applicable Medicaid State plan.

Regulatory Impact

We have examined the impacts of this rule as required by Executive Order 12866 and the Regulatory Flexibility Act (RFA) (Pub. L. 96-354). Executive Order 12866 directs agencies to assess all costs and benefits of available regulatory alternatives and, if regulation is necessary, to select regulatory approaches that maximize net benefits (including potential economic, environmental, public health and safety effects, distributive impacts, and equity). A Regulatory Impact Analysis (RIA) must be prepared for major rules with economically significant effects ($100 million or more annually). This notice is not a major notice because we have determined that the economic impact will be negligible.

Section 202 of the Unfunded Mandates Reform Act of 1995 also requires that agencies assess anticipated costs and benefits before issuing any rule that may result in an expenditure in any one year by State, local, or tribal governments, in the aggregate, or by the private sector, of $100 million. This rule will not have a significant economic effect on these governments or the private sector.

The Department has determined that this notice does not have a substantial effect on States or local governments under Executive Order 13132 and will not interfere with the roles, rights and responsibilities of States or local governments.

We are not preparing analysis for the RFA because we have determined, and we certify, that this rule will not have a significant economic impact on a substantial number of small entities.

In accordance with the provisions of Executive Order 12866, this notice was reviewed by the Office of Management and Budget.

Dated: July 31, 2000.
Michel E. Lincoln,
Deputy Director.

[FR Doc. 00-19779 Filed 8-3-00; 8:45 am]

BILLING CODE 4160-16-M